FEDERAL COMMUNICATIONS COMMISSION

[DA 01-1567]

Fourth Meeting of the Advisory Committee for the 2003 World Radiocommunication Conference (WRC-03 Advisory Committee)

AGENCY: Federal Communications Commission.

ACTION: Notice.

SUMMARY: In accordance with the Federal Advisory Committee Act, this notice advises interested persons that the next meeting of the WRC-03 Advisory Committee will be held on August 28, 2001, at the Federal Communications Commission. The purpose of the meeting is to continue preparations for the 2003 World Radiocommunication Conference. The Advisory Committee will consider any preliminary views and/or proposals introduced by the Advisory Committee's Informal Working Groups.

DATES: August 28, 2001; 10:00 am-12:00 noon.

ADDRESSES: Federal Communications Commission, 445 12th Street, SW., Room TW-C305, Washington DC 20554.

FOR FURTHER INFORMATION CONTACT: Julie Garcia, FCC International Bureau, Planning and Negotiations Division, at (202) 418-0763.

SUPPLEMENTARY INFORMATION: The Federal Communications Commission (FCC) established the WRC-03 Advisory Committee to provide advice, technical support and recommendations relating to the preparation of United States proposals and positions for the 2003 World Radiocommunication Conference (WRC-03). In accordance with the Federal Advisory Committee Act, Public Law 92-463, as amended, this notice advises interested persons of the fourth meeting of the WRC-03 Advisory Committee. The WRC-03 Advisory Committee has an open membership. All interested parties are invited to participate in the Advisory Committee and to attend its meetings. The proposed agenda for the fourth meeting is as follows:

Agenda

Fourth Meeting of the WRC-03 Advisory Committee, Federal Communications Commission, 445 12th Street, SW., Room TW-C305, Washington, DC 20554: August 28, 2001; 10 a.m.-12 Noon

1. Opening Remarks.

2. Approval of Agenda.

3. Approval of the Minutes of the Third Meeting.

4. IWG Reports and Documents relating to:

a. Consensus Views and Issue Papers.

b. Draft Proposals.

5. Future Meetings.

6. Other Business.

Federal Communications Commission.
Donald Abelson,
Chief, International Bureau.

[FR Doc. 01-19066 Filed 7-30-01; 8:45 am]

BILLING CODE 6712-01-P